POSTAL REGULATORY COMMISSION

39 CFR Part 3001

[Docket No. RM2016-6; Order No. 3048]

Procedures Related to Motions; Correction

AGENCY: Postal Regulatory Commission.

ACTION: Proposed rule; correction.

SUMMARY: This document corrects the DATES section to a proposed rule published in the Federal Register of February 1, 2016. The Commission did not intend to permit interested persons to file reply comments. The Commission is seeking initial comments only.

DATES: Comments are due: March 2, 2016. There will be no reply comment period.

FOR FURTHER INFORMATION CONTACT: David A. Trissell, General Counsel, at 202-789-6820.

Correction

In proposed rule FR Doc. 2016-01735, beginning on page 5085 in the issue of February 1, 2016, make the following correction to the Dates section. On page 5085 in the first column, revise the DATES to read as follows:

DATES: Comments are due: March 2, 2016. There will be no reply comment period.

By the Commission.
Stacy L. Ruble,
Secretary.

[FR Doc. 2016-02950 Filed 2-12-16; 8:45 am]

BILLING CODE 7710-FW-P